SMALL BUSINESS ADMINISTRATION

[License No. 06/06-0332]

Main Street Capital II, LP; Notice of Exemption Under Section 312 of the Small Business Investment Act, Conflicts of Interest

Notice is hereby given that Main Street Capital II, LP, 1300 Post Oak Blvd, Suite 800, Houston, TX 77056, a Federal Licensee under the Small Business Investment Act of 1958, as amended (“the Act”), in connection with the financing of a small concern, has sought an exemption under section 312 of the Act and section 107.730 of the Small Business Administration (“SBA”) Rules and Regulations (13 CFR 107.730), Financings which Constitute Conflicts of Interest. Main Street Capital II, LP provided a debt/equity financing to National Trench Safety, LLC, 15955 West Hardy Road, Houston, TX 77060. The financing was made to support the growth and development of the company.

The financing is brought within the purview of section 107.730(a)(1) of the Regulations because Main Street Equity Interests, Inc., an Associate of Main Street Capital II, LP, owns more than ten percent of National Trench Safety, LLC.

Notice is hereby given that any interested person may submit written comments on the transaction to the Associate Administrator for Investment, U.S. Small Business Administration, 409 Third Street, SW., Washington, DC 20416.

Sean J. Greene,
Associate Administrator for Investment.

[FR Doc. 2010-22297 Filed 9-7-10; 8:45 am]

BILLING CODE 8025-01-P